DEPARTMENT OF TRANSPORTATION

Federal Transit Administration

State Coordination Grants; Solicitation for Proposals

AGENCY: Federal Transit Administration, DOT.

ACTION: Notice of request for proposals.

SUMMARY: This solicitation is for states to submit proposals for the State Coordination Grants component of the United We Ride initiative (UWR). The intent of the UWR initiative is to break down the barriers among Federal programs as they relate to transportation to ensure that transportation services are seamless, comprehensive and accessible. Specifically, UWR is tasked with seeking ways to simplify access to transportation services for persons with disabilities, persons with lower incomes, and older adults.

States Coordination Grants may be used to assist states through either planning or implementation grants. Planning grants are for states that have not yet received a UWR grant, and do not have a comprehensive action plan. Planning grants can be used to conduct a comprehensive state assessment using the UWR Framework for Action and to develop a comprehensive state action plan for coordinating human service transportation. Implementation grants are for states which have developed a comprehensive state action plan. Implementation grants can be used for implementing one or more of the elements identified within a state action plan consistent with the UWR Framework for Action. The UWR Framework for Action is a self- assessment tool for states and communities to conduct comprehensive state assessments to identify areas of success and highlight the actions still needed to improve the coordination of human service transportation. The self- assessment tool is designed to address the needs of people with disabilities, older adults, and individuals with lower-incomes. For further information on the Framework for Action, please visit: Framework for Action at the United We Ride Web site (http://www.unitedweride.gov).

DATES: Proposals must be submitted November 28, 2005. States are advised to begin the Grants.Gov registration process immediately, if they have not previously submitted grant applications through http://www.Grants.Gov in order to be able to meet the deadline. Grants.gov allows organizations to electronically find and apply for competitive grant opportunities from all Federal grant-making agencies. Grants.gov is the single access point for over 1000 grant programs offered by the 26 Federal grant-making agencies.

ADDRESSES: Proposals are to be submitted electronically through http://www.Grants.Gov Proposals can also be submitted in hard copy to at the address below. All proposals must be postmarked by midnight November 28, 2005.

FOR FURTHER INFORMATION CONTACT: Bryna Helfer at PH: 202-366-1663; FAX: 202-366-3136; United We Ride Grants, 400 7th Street, SW., Room 9114, Washington, DC or UnitedWeRide@fta.dot.gov.

SUPPLEMENTARY INFORMATION:

Background

United We Ride (UWR) is an initiative of the Federal Interagency Coordinating Council on Access and Mobility (CCAM), established by President George W. Bush under the Executive Order on Human Service Transportation Coordination. The CCAM includes eleven Federal Departments working together to simplify access; reduce duplication; and enhance cost efficiencies within existing resources.

The Congress and the Executive Branch are interested in ensuring that various human service transportation activities funded by various Federal programs are better coordinated. The Government Accountability Office (GAO) issued a report on “Transportation Disadvantaged Populations” (June 2003) that identified sixty-two different Federal Programs across eight Federal agencies that provide funding that may be used to support community transportation services.

The GAO Report points out that there are multiple public and private agencies that provide human service transportation in any one community, and services vary greatly in terms of eligibility requirements, hours or scope of operation, specific destinations and quality. Given the multiplicity of programs and the significant dollar amounts spent, more effective coordination is needed to ensure better service to more people. This is especially true when Federal, state, and local budgets for human service activities are under extreme pressure. GAO, many objectives have been achieved however, the fragmentation and lack of also indicated that coordination among supporting agencies continues to be a challenge. In 2005, the CCAM submitted a report to the President outlining five overarching recommendations. As such, most of the recommendations represent interim, coordination-based solutions that the CCAM believes will strengthen existing transportation services to be more cost-effective and accountable and help providers become more responsive to consumers. The five recommendations include: (1) Coordinated transportation planning; (2) vehicle sharing; (3) cost allocation, (4) reporting and evaluation, and (5) consolidated access transportation demonstration program. The report also includes both collective and departmental action plans related to CCAM members' specific program objectives.

Program Goals for State Coordination Grants

1. Increase overall capacity of states to deliver comprehensive and coordinated human service transportation that meets the needs of the transportation-disadvantaged population (i.e., individuals with lower incomes, older adults, and persons with disabilities across the lifespan).

2. Increase cross agency/department collaboration to facilitate coordination, enhance services, and address duplication and redundancies of programs and services.

3. Implement elements of the statewide action plan that lead to a more fully coordinated human service transportation system.

Eligibility of Applicants

Eligible applicants include the Governor's office from each state. The Governor may designate a “lead” agency, in writing. This designation should be submitted with the state's proposal. The Federal Transit Administration (FTA) will accept proposals submitted in electronic and/or hard copy. The proposal must clearly demonstrate collaboration among multiple state agencies. The Governor's office or designated “lead” agency is responsible for leading the application, implementation, reporting and evaluation process.

Purpose

State Coordination Grants are intended to assist states that want to strengthen or jump start efforts to coordinate human service transportation. The UWR Framework for Action and its accompanying Facilitator's Guide enable leaders at the state level to guide a coordinating council, an interagency working group, through a transportation coordination assessment and action planning process. State Coordination Grants may be used to assist states through either planning or implementation. Planning grants can be used to conduct a comprehensive state assessment using the UWR Framework for Action and to develop a comprehensive state action plan for coordinating human service transportation. Implementation grants are for states that have developed a comprehensive state action plan. Implementation grants can be used for implementing one or more of the elements identified within their state action plan related to the UWR Framework for Action. States applying for implementation grants are encouraged to address at least one of the following priority areas, which will be given additional consideration in the evaluation and review process:

Priority 1: Development and implementation of transit pass policy and programs with Medicaid and other agencies.

Priority 2: Development of strategies for meeting the transportation needs of older adults, people with disabilities, and individuals with lower incomes during natural or man-made disasters.

Priority 3: Development of a cross agency coordinated tracking and accountability system; including real time eligibility, billing, and reporting.

Examples of How States May Use State Coordination Grants Funds

Planning Grants

• Conduct a statewide assessment of current needs, resources and services related to human service transportation using UWR Framework for Action.

• Based on the UWR Framework for Action assessment, develop action plans that improve coordination of human service transportation for individuals with disabilities, older adults, and persons with lower incomes.

(Note: Pertains only to states that have not previously received planning grants.)

Implementation Grants

• Implement statewide interagency transit pass program.

• Conduct statewide seminars/conferences to establish statewide dialogue that leads to effective action steps for future coordination of human service transportation issues.

• Develop a statewide regionalized coordination system.

• Replicate a successful model in one or more communities across the state (i.e., transit pass program; volunteer driver; travel training; etc.).

▪ Integrate technology to address the needs of coordination on human service transportation, including real time eligibility, accountability, billing, and reporting.

▪ Develop and test a mobility management strategy.

Assistance to Grantee

States receiving grants may also receive technical assistance through a variety of resources. Specific resource centers include the Community Transportation Assistance Program (CTAP), the Rural Transportation Assistance Program (RTAP), Easter Seals Project ACTION, Intelligent Transportation Systems Peer to Peer Program,and the Multi-State Technical Assistance Program. The range of services available includes, but is not limited to, assistance with coalition building, assessment, strategic planning, training, policy development, customer outreach, implementation strategies, and evaluation. Technical assistance is provided via phone, e-mail, during on-site visits when appropriate. States will also be able to receive technical assistance through the UWR ambassador program. The UWR ambassador program is a program to provide hands-on assistance to states in the development and delivery of coordinated human service transportation programs.

Proposal Submission

Your proposal should be compatible with Microsoft Word and submitted electronically through the http://.www.Grants.Gov web site. The proposal must include a project narrative that addresses all of the elements for submission in either the planning or implementation category. Proposals may not exceed ten pages, not including the budget or letters of support. Proposals should be submitted double-spaced, in Times New Roman, 12-point font. Applicants must also submit letters of support either via fax to United We Ride at 202-366-3136, or scanned documents attached to the http://.www.Grants.Gov. submission.

Applicants may apply for grants in the areas of planning or implementation. Planning grant applicants should address ALL of the following elements in their proposal applications.

1. Briefly describe the state's mission as it relates to the coordination of human service transportation.

2. Briefly describe the state's strategy for conducting the Framework for Action or other tool that leads to enhanced dialogue and understanding of current status of coordinated transportation system.

3. Briefly describe how this grant will address and support your plans to develop a comprehensive state action plan for coordinating human service transportation.

4. Describe the level of coordination/collaboration with other state agencies and other partners (e.g., providers, consumers, planning entities, private for profit, non-profit organizations, and government).

5. Briefly describe how the state action (3.) plan will meaningfully involve consumers in the development and implementation of human service transportation planning process.

6. Briefly describe the plan for coordination/collaboration with the emergency planning efforts in the state regarding transportation for people with disabilities, older adults, and individuals with lower incomes during a natural or man-made disaster.

7. Submit a narrative of your proposed project that includes a project time-line with deliverables.

8. The proposal must include a budget that includes a line item for each budget category and a budget narrative. Note: Grant funds may not be used to support capital equipment, or for the provision of services.

9. Submit letters of support from state agencies, the Governor and other stakeholders.

Criteria for Rating and Selecting Proposals (Planning Grants)

1. The extent to which the applicant demonstrates a high level of executive leadership and commitment, shared decision making, and policy adoption among agencies within the state. Applicants should submit letters of commitment from partner agencies. Letters of commitment should be submitted via fax separately to UWR at fax number 202-366-3136 or as scanned documents attached to the http://.www.grants.gov submission.

2. The extent to which the applicant's planning process includes a comprehensive range of transportation services for older adults, people with disabilities, and individuals with lower incomes.

3. The extent to which the applicant has clearly defined a plan for conducting the Framework for Action or other process for building dialogue and understanding current status of coordination issues in the state.

4. The extent to which the applicant has clearly described the process, timeline, stakeholder input, and strategies for developing a multi-agency action plan for coordinated human service transportation plan.

5. The extent to which the applicant has clearly outlined the level of coordination/collaboration with other state agencies and other partners (e.g., providers, consumers, planning entities, private for profit, non-profit organizations, and government).

6. The extent that there is a plan to include agencies involved in emergency preparedness to address transportation needs during natural or man-made disasters.

7. The extent to which the applicant has clearly defined the strategy and approach for meaningful involvement of consumers in the development and implementation of human service transportation grant activities.

8. The extent to which the proposed project's goals, objectives, timelines, evaluation plan and budget are congruent with the proposed activities.

Implementation grant applicants should address ALL of the following elements in their proposal applications.

1. Applicants for implementation grants must submit Page 41 of the Framework for Action self-assessment tool and a copy of the state's action plan.

2. Briefly described the state's mission as it relates to the coordination of human service transportation.

3. Describe the level of coordination/collaboration with state agencies and any other partners (e.g., providers, consumers, private for profit, non-profit organizations, or government).

4. Briefly describe how the state action plan will meaningfully involve consumers in the development and implementation of human service transportation grant activities.

5. Submit a narrative of proposed project activities that includes a project time-line with deliverables, milestones, and evaluation plan. Briefly describe how these activities related to the state's action plan and the Framework for Action.

6. Describe a plan for evaluation of the implementation activities outlined in the proposal.

7. Submit a budget that includes a line by line itemized budget and a budget narrative. Note: Grant funds may not be used to support capital equipment, or for the provision of services.

8. Submit letters of support from state agencies, the Governor and other stakeholders.

9. Optional: Briefly address how the state will address one of the priority areas outlined in the solicitation, including strategies, partners, deliverables, timelines, and evaluation strategies. Discuss how this proposed activity relates to the state action plan. NOTE: States choosing this option may use an additional three pages to submit their priority area.

Criteria for Rating and Selecting Proposals (Implementation Grants)

1. The extent to which the state has a well established action plan on human service transportation coordination adopted by multiple state agencies and addresses the transportation needs of older adults, people with disabilities and individuals with lower incomes.

2. The extent to which the state demonstrates leadership and resources (e.g., funding, staff, policies, etc.) to implement coordinated human service transportation initiatives.

3. The extent to which the state adequately demonstrates coordination/collaboration with state agencies and any other partners (e.g., providers, consumers, private for profit, non-profit organizations, or government).

4. The extent to which the state demonstrates meaningful involvement of consumers in the development and implementation of human service transportation grant activities.

5. The extent to which the proposed activities, timelines, evaluation plan, and budget are congruent with the proposed goals, objectives, and outcomes for the project and state action plan.

6. The extent the state has addressed the development and implementation of performance measures and evaluation strategy for the targeted activities outlined in the proposal.

7. Priority areas: States will receive additional consideration for addressing one of the priority areas. Evaluation in this area will be based on the extent that the state has clearly defined a strategy and approach to address the priority area. The extent to which there is adequate consideration and participation by the relevant agencies and leadership for successful implementation and change process.

Eligibility/Expenses: Grant funds may not be used for capital purchases, or provision of services. Grant funds may be used to support personnel for planning, training, coordination, mobility management, and other administration activities required to enhance coordination among and across agencies within the state. Supplies, small equipment (computers, etc.), and travel are also eligible expenses.

Review and Award Process:Interagency panels from CCAM will review each grant application. The Federal Transit Administrator will notify successful applicants. The anticipated notification of grantee selections is January 2, 2006. Regional offices will work with respective Washington, DC based offices and technical assistance providers to assist states with implementation after the selections are announced. Selected recipients will have pre-award authority as of the date of notification of project selection. FTA will manage the grants through FTA's electronic award and management web-based system.

Grant Periods and Awards: The grant period is one year (starting on the date of the grant contract obligation date and ending one year from that date.) Grants will be given to states that submit proposals and meet the requirements outlined in this notice. In FY 2005 $1,250,000 is available for UWR State Coordination Grants initiative. Grants under this initiative range from $35,000 to $75,000. Maximum funding for states applying for planning grants is $35,000. Maximum funding for states applying for implementation grants is $75,000.

Issued On: September 8, 2005.
Jennifer L. Dorn,
Administrator.

[FR Doc. 05-18274 Filed 9-13-05; 8:45 am]

BILLING CODE 4910-57-M